DEPARTMENT OF COMMERCE

International Trade Administration

[A-570-010]

Certain Crystalline Silicon Photovoltaic Products From the People's Republic of China: Final Results of Antidumping Duty Administrative Review; 2017-2018

AGENCY: Enforcement and Compliance, International Trade Administration, Department of Commerce.

SUMMARY: On March 6, 2019, the Department of Commerce (Commerce) published its Preliminary Results for the February 1, 2017, through January 31, 2018, administrative review of the antidumping duty order on Certain Crystalline Silicon Photovoltaic Products (solar products) from the People's Republic of China (China). Although invited to do so, interested parties did not comment on our Preliminary Results. We have adopted the Preliminary Results as the final results.

DATES: Applicable June 14, 2019.

FOR FURTHER INFORMATION CONTACT: Jeff Pedersen, AD/CVD Operations, Office IV, Enforcement & Compliance, International Trade Administration, U.S. Department of Commerce, 1401 Constitution Avenue NW, Washington, DC 20230; telephone: (202) 482-2769.

Background

On March 6, 2019, Commerce published its Preliminary Results of the review of the antidumping duty order on solar products from China for Sol-lite Manufacturing Company Limited (Sol-lite), Ri Shen Products (SZ) (Ri Shen), and Shenzhen Sungold Solar Co., Ltd. (Sungold) covering the period February 1, 2017, through January 31, 2018 (the period of review (POR)).¹ No parties commented on the Preliminary Results.

¹ See Certain Crystalline Silicon Photovoltaic Products from the People's Republic of China: Preliminary Results of Antidumping Duty Administrative Review; 2017-2018, 84 FR 8081 (March 6, 2019) (Preliminary Results) and accompanying Preliminary Decision Memorandum (PDM).

Scope of the Order

The product covered by the Order is certain crystalline silicon photovoltaic products. Commerce preliminarily revised the scope to include the harmonized tariff schedule numbers under which subject merchandise is entered.² No parties commented on this revision. Hence, we have adopted this revision in these final results. Under this revision, imports of subject merchandise are classified under the Harmonized Tariff Schedule of the United States (HTSUS) subheadings: 8501.61.0000, 8507.20.8030, 8507.20.8040, 8507.20.8060, 8507.20.8090, 8541.40.60.15, 8541.40.6020, 8541.40.6030, 8541.40.60.35. Although the HTSUS subheadings are provided for convenience and customs purposes, the written product description in the Order remains dispositive.³

² See Preliminary Results, 84 FR at 8081 and the PDM at 3, n.15 (discussing the revisions to the HTSUS numbers in the scope).

³ See PDM for a complete description of the scope of the Order.

Analysis

As noted above, no parties commented on the Preliminary Results. Therefore, we are adopting the decisions in the Preliminary Decision Memorandum for these final results of review. In the Preliminary Results, Commerce: (1) Determined that all three companies under review—Sol-lite, Ri Shen, and Sungold—did not establish their eligibility for a separate rate and are part of the China-wide entity.⁴ For these final results of review, we have continued to treat Sol-lite, Ri Shen, and Sungold as part of the China-wide entity. Because no party requested a review of the China-wide entity, we are not conducting a review of the China-wide entity.⁵ Thus, there is no change to the rate for the China-wide entity. The existing rate for the China-wide entity is 151.98 percent.

⁴ See Preliminary Results, 84 FR 8081.

⁵ See Antidumping Proceedings: Announcement of Change in Department Practice for Respondent Selection in Antidumping Duty Proceedings and Conditional Review of the Nonmarket Economy Entity in NME Antidumping Duty Proceedings, 78 FR 65963, 65969-70 (November 4, 2013).

For additional details, see the Preliminary Decision Memorandum, which is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Results Decision Memorandum can be accessed directly on the internet at http://enforcement.trade.gov/frn/index.html. The signed and the electronic versions of the Preliminary Decision Memorandum are identical in content.

Assessment Rates

Pursuant to section 751(a)(2)(C) Tariff Act of 1930, as amended (the Act), and 19 CFR 351.212(b), Commerce has determined, and U.S. Customs and Border Protection (CBP) shall assess, antidumping duties on all appropriate entries of subject merchandise in accordance with the final results of this review. Commerce intends to issue assessment instructions to CBP 15 days after the publication date of the final results of this review. Commerce intends to instruct CBP to liquidate any entries of subject merchandise exported during this POR by Sol-lite, Ri Shen, and Sungold at the China-wide rate.

Cash Deposit Requirements

The following cash deposit requirements will be effective upon publication of the final results of this administrative review for shipments of subject merchandise from China entered, or withdrawn from warehouse, for consumption on or after the publication date in the Federal Register of the final results of this review, as provided by section 751(a)(2)(C) of the Act: (1) For previously investigated or reviewed China and non-China exporters which are not under review in this segment of the proceeding but which received a separate rate in a prior segment of this proceeding, the cash deposit rate will continue to be the existing exporter-specific rate; (2) for all China exporters of subject merchandise that have not been found to be entitled to a separate rate, the cash deposit rate will be the rate for the China-wide entity, which is 151.98 percent; and (3) for all non-China exporters of subject merchandise which have not received their own rate, the cash deposit rate will be the rate applicable to the Chinese exporter that supplied that non-China exporter.

These deposit requirements, when imposed, shall remain in effect until further notice.

Notification to Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APOs) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

This notice of the final results of this antidumping duty administrative review is issued and published in accordance with sections 751(a)(1) and 777(i) of the Act and 19 CFR 351.213 and 19 CFR 351.221(b)(5).

Dated: June 6, 2019.
Jeffrey I. Kessler,
Assistant Secretary for Enforcement and Compliance.

[FR Doc. 2019-12608 Filed 6-13-19; 8:45 am]

BILLING CODE 3510-DS-P